DEPARTMENT OF THE INTERIOR

Bureau of Land Management

[WO-340-1220-PC-02-24 1A]

Extension of Currently Approved Information Collection, OMB Approval Number 1004-0165

AGENCY: Bureau of Land Management, Interior.

ACTION: Notice and request for comments.

SUMMARY: In accordance with the Paperwork Reduction Act of 1995, the Bureau of Land Management (BLM), acting for the Department of the Interior, announces its intention to request approval to collect certain information from those people submitting nominations for significant caves under the Federal Cave Resources Protection Act of 1988 and those people requesting confidential cave information on federal lands administered by the Secretary of the Interior. This information is needed to: (1) Determine which caves will be listed as significant and (2) decide whether to grant access to confidential cave information.

DATES: Comments on the proposed information collection must be received by May 30, 2000 to be assured of consideration.

ADDRESSES: Comments may be mailed to: Regulatory Affairs Group (WO-630), Bureau of Land Management, 1849 C St., NW, Mail Stop 401 LS, Washington, DC 20240.

Comments may be sent via the Internet to: WOComment@blm.gov. Please include “ATTN: 1004-0165” and your name and return address in your Internet message.

Comments may be hand delivered to: The Bureau of Land Management Administrative Record, Room 401, 1620 L St., NW, Washington, DC.

Comments will be available for inspection at the L Street address during regular business hours (7:45 am to 4:15 pm), Monday through Friday, except holidays.

FOR FURTHER INFORMATION CONTACT: Jim Goodbar, BLM, Carlsbad, New Mexico Field Office, (505) 234-5929.

SUPPLEMENTARY INFORMATION: In accordance with 5 CFR 1320.12(a), the BLM, on behalf of the Department, is required to provide a 60-day notice in the Federal Register concerning a collection of information contained in published current rules to solicit comments on: (a) Whether the collection of information is necessary for the proper performance of the functions of the agency, including whether the information has practical utility; (b) the accuracy of the agency's estimate of the burden of collecting the information, including the validity of the methodology and assumptions used; (c) ways to enhance the quality, utility, and clarity of the information to be collected; and (d) ways to minimize the burden of collecting the information on those who are to respond, including through the use of appropriate automated, electronic, mechanical, or other technological collection techniques or other forms of information technology. BLM will receive and analyze comments sent in response to this notice and include them in the request for approval from the Office of Management and Budget under 44 U.S.C. 3501 et seq.

Nominations of Significant Caves

The Federal Cave Resources Protection Act of 1988, 102 Stat. 4546, 16 U.S.C. 4301, requires identifying, protecting and maintaining, to the extent possible, significant caves on lands managed by the Department of the Interior. The implementing regulations are found at 43 CFR 37—Cave Management. The regulations were issued on October 1, 1993. Federal agencies must consult with “cavers” and other interested parties and develop a listing of significant caves. The regulations establish criteria for identifying significant caves and integrate cave management into existing planning and management processes to protect cave resource information. Protecting the information will prevent vandalism and disturbance of significant caves.

The public and other government agencies provide (a) names and addresses, (b) name and phone number of a key contact, (c) cave name, (d) cave location, (e) topographic and/or cave maps, (f) name of the administering federal agency and agency filed office name and address where the cave is located, (g) description of the cave, and (h) description of the applicable criteria significant caves, such as biota, cultural, geologic/mineralogic/paleontologic, hydrologic, recreational, and/or educational or scientific. If the Department did not collect the information, it could not identify, manage, and protect significant caves in accordance with the law.

This collection of information is short, simple, and limited to the information necessary for efficient operation of the program. The information collected is a voluntary, non-recurring submission necessary to receive a benefit. There is no other source for the information, and failure to submit the necessary information could result in a significant cave not receiving appropriate protection. Respondents already maintain this information for their own recordkeeping purposes and need only compile it for submission.

Based on the Department's experience in administering cave resources as described above, the public reporting burden for this collection is estimated to average 3 hours per response. The estimate includes the time for research, time to transcribe and audit the data, and time to prepare the nomination. The number of responses is estimated to be about 200 per year. The frequency of response is once per nomination. The estimated total annual burden on new respondents is 600 hours.

Access to Confidential Cave Information

Other federal or state agencies, bona fide educational or research institutes, or individuals or organizations assisting the land management agencies with cave management activities may request access to confidential cave information. The written request should include: (a) name, address and telephone number of the person responsible for the security of the information, (b) a legal description of the cave location, (c) a statement of the purpose of the request, and (d) written assurance that the requesting party will maintain the confidentiality of the information and protect the cave and its resources. The Department uses the information provided to determine whether disclosure will create a substantial risk to cave resources. If the Department did not collect the information, it could not identify, manage or protect significant caves in accordance with the laws.

The collection of information is short, simple and convenient to the applicant. The information collected is a voluntary, non-recurring submission necessary to receive a benefit. The respondents already maintain this information for their own recordkeeping purposes and need only compile it.

Based on the Department's experience administering cave resources as described above, the information collection burden for confidential cave information requests is about 1 hour per request. The number of requests per year is ten. The frequency of response is once per request. The estimated total annual burden on new respondents is 10 hours.

All responses to this notice will be summarized and included in the request for Office of Management and Budget approval. All comments will also be a matter of public record.

Dated: March 27, 2000.
Carole Smith,
BLM Information Collection Officer.

[FR Doc. 00-7837 Filed 3-29-00; 8:45 am]

BILLING CODE 4310-84-M